DEPARTMENT OF HEALTH AND HUMAN SERVICES

Centers for Disease Control and Prevention

[60Day-21-0607; Docket No. CDC-2021-0078]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled The National Violent Death Reporting System (NVDRS). NVDRS is a state-based surveillance system developed to monitor the occurrence of violent deaths in the United States.

DATES: CDC must receive written comments on or before October 5, 2021.

ADDRESSES: You may submit comments, identified by Docket No. CDC-2021-0078 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

The National Violence Death Reporting System (NVDRS) (OMB Control No. 0920-0607, Exp. 7/31/2023)—Revision—National Center for Injury Prevention and Control (NCIPC), Centers for Disease Control and Prevention (CDC).

Background and Brief Description

This is a Revision request for the National Violent Death Reporting System (NVDRS, OMB Control No. 0920-0607). All 50 states, the District of Columbia, and Puerto Rico participate in the system. NVDRS is a state-based surveillance system developed to monitor the occurrence of violent deaths (i.e., homicide, suicide, deaths due to legal intervention, deaths of undetermined intent, and unintentional firearm deaths) in the United States (U.S.) by collecting comprehensive data from multiple sources (e.g., death certificates, coroner/medical examiner reports, law enforcement reports) into a useable, anonymous database.

CDC received initial OMB approval in November 2004 and renewals in January 2007, November 2009, September 2012, June 2013, October 2014, November 2017, and July 2020. The last revision request that was approved in July 2020 was to; (1) implement updates to the web-based system to improve performance, functionality, and accessibility, (2) add new data elements to the system, and (3) make minimal revisions to the NVDRS coding manual.

This revision request is for several changes to the system; (1) Implementation of updates to the web-based system to improve performance, functionality, and accessibility, (2) Adding thirteen new data elements to the web-based system (housing instability, history of non-suicidal self injury/self harm, household known to local authorities, caregiver use of corporal punishment contributed to child death, children present and/or witnessed fatal incident, prior child protective services report on child victim's household, substance abuse in child victim's household, caregiver burden, history of traumatic brain injury, family stressor, life transition/loss of independent living, non-adherence to mental health/substance abuse treatment, and disaster exposure (revisions to existing variable), (3) Adding the School Associated Violent Death (SAVD) module (only applicable to school-related incidents meeting certain inclusion criteria) to NVDRS Software 2.2 in order to capture such incidents. To address duplication, SAVD will be phased out and the SAVD module in NVDRS will capture in depth information about such incidents. This change was made as NVDRS has almost achieved full nationwide coverage, (4) Adding new variables that have been incorporated into NVDRS 2.3 software, anticipated to be rolled out in July/August 2021 (victim known to local authorities, no substance(s) given as cause of death (on toxicology tab), and type of physical health problem, and (5) Adding the Public Safety Officer Suicide Reporting module, in January 2022, to capture more detailed information on suicides among public safety officers.

A software update, version 2.3, is in testing and scheduled for release early in August 2021 that includes; (1) capability to transfer cases from one state to another (to assist collaboration on border-crossing incidents), (2) generation of custom data export files on demand, and (3) very slight modifications to School-Associated Violent Death (SAVD) data elements based on feedback since launch of that module. The new variables described in the updates above were needed in response to feedback from VDRS abstractors and discussions among NVDRS scientific and Information Technology staff about how to better capture this information.

CDC requests approval for an estimated 41,827 annual burden hours. The estimated change in burden from the last OMB submission is 4,027 hours. There are no costs to respondents other than their time.

Estimated Annualized Burden Hours
Type of respondent | Form name | Number of respondents | Number responses per respondent | Average burden per response (in hours) | Total burden hours
Public Agencies | Web-based Data Entry | 56 | 1,350 | 30/60 | 37,800
| School Associated Violent Death Module | 45 | 1 | 30/60 | 23
| Public Safety Officer Suicide Reporting Module | 56 | 429 | 10/60 | 4,004
Total |  |  |  |  | 41,827

Jeffrey M. Zirger,
Lead, Information Collection Review Office, Office of Scientific Integrity, Office of Science, Centers for Disease Control and Prevention.

[FR Doc. 2021-16821 Filed 8-5-21; 8:45 am]

BILLING CODE 4163-18-P